DEPARTMENT OF HEALTH AND HUMAN SERVICES

Centers for Disease Control and Prevention

National Center for Environmental Health; Meeting

The National Center for Environmental Health (NCEH) of the Centers for Disease Control and Prevention (CDC) announces the following meeting:

Name: Applying Genetics and Public Health Strategies to Primary Immunodeficiency Diseases.

Times and Dates:

8 a.m.—6 p.m., November 8, 2001

8 a.m.—1 p.m., November 9, 2001

Place: Hyatt Regency, 285 Peachtree Street, Atlanta, Georgia 30309, Phone: 404-577-1234.

Status: Open to the public for observation and comment, limited only by the space available. The meeting room accommodates approximately 60 people.

Purpose: The purpose of the meeting is to identify a public health strategy for Primary Immunodeficiency (PI) Disease, including a public health assessment, examine laboratory issues including uses of genetic tests, to identify public health interventions to increase early recognition, to review efforts to increase awareness about these diseases among providers and the public, and to identify future public health strategies for assessment, intervention, and education.

Matters to be Discussed: The meeting objectives, although focused specifically on PI, also establish a framework useful for developing public health strategies for other common complex diseases. The objectives are: (1) To make a public health assessment of primary immunodeficiency diseases; (2) To examine uses of genetic tests and role in clinical practice; (3) To identify public health interventions to enhance early identification and intervention; (4) To review efforts to educate providers, patients and the public about primary immunodeficiency; and (5) To identify next steps for public health, including research priorities and workshop recommendations.

Agenda items are tentative and subject to change.

CONTACT PERSON FOR MORE INFORMATION: Mary Lou Lindegren, M.D., Designated Federal Official, CDC, 4770 Buford Highway, NE, MS K-28, Atlanta, Georgia 30341-3724; telephone 770-488-3235, fax 770-488-3236; e-mail: mll3@cdc.gov.

The Director, Management Analysis and Services Office, has been delegated the authority to sign Federal Register notices pertaining to announcements of meetings and other committee management activities for both the Centers for Disease Control and Prevention and the Agency for Toxic Substances and Disease Registry.

Dated: October 20, 2001.
John Burckhardt,
Acting Director, Management Analysis and Services Office, Centers for Disease Control and Prevention.

[FR Doc. 01-26873 Filed 10-24-01; 8:45 am]

BILLING CODE 4163-18-P